DEPARTMENT OF COMMERCE

International Trade Administration

Initiation of Antidumping and Countervailing Duty Administrative Reviews

AGENCY: Import Administration, International Trade Administration, Department of Commerce.

ACTION: Notice of initiation of antidumping and countervailing duty administrative reviews.

SUMMARY: The Department of Commerce (the Department) has received requests to conduct administrative reviews of various antidumping and countervailing duty orders and findings with March anniversary dates. In accordance with the Department's regulations, we are initiating those administrative reviews.

EFFECTIVE DATE: April 28, 2004.

FOR FURTHER INFORMATION CONTACT: Holly A. Kuga, Office of AD/CVD Enforcement, Import Administration, International Trade Administration, U.S. Department of Commerce, 14th Street and Constitution Avenue, NW., Washington, DC 20230, telephone: (202) 482-4737.

SUPPLEMENTARY INFORMATION:

Background

The Department has received timely requests, in accordance with 19 CFR 351.213(b)(2002), for administrative reviews of various antidumping and countervailing duty orders and findings with March anniversary dates.

Initiation of Reviews

In accordance with 19 CFR 351.221(c)(1)(i), we are initiating administrative reviews of the following antidumping and countervailing duty orders and findings. We intend to issue the final results of these reviews not later than March 31, 2005.

| Period to be reviewed
Antidumping Duty Proceedings
BRAZIL: Certain Hot-Rolled Carbon Steel Flat Products A-351-828 | 3/1/03-2/29/04
Companhia Siderurgica Nacional
FRANCE: Stainless Steel Bar A-427-820 | 3/1/03-2/29/04
Ugitech, S.A. aka Ugine-Savoie
GERMANY: Stainless Steel Bar A-428-830 | 3/1/03-2/29/04
BGH Edelstahl Freital GmbH/BGH Edelstahl Lippendorf GmbH/BGH Edelstahl Lugau GmbH/BGH Edelstahl Siegen GmbH
THAILAND: Circular Welded Carbon Steel Pipes & Tubes A-549-502 | 3/1/03-2/29/04
Saha Thai Steel Pipe Company, Ltd.
THE PEOPLE'S REPUBLIC OF CHINA:
Bars/Wedges A-570-803 | 2/1/03-1/31/04
Shanghai Xinike Trading Company, Ltd.¹
Glycine ² A-570-836 | 3/1/03-2/29/04
Baoding Mantong Fine Chemistry Co., Ltd.
Certain Preserved Mushrooms ³ A-570-851 | 2/1/03-1/31/04
UNITED KINGDOM: Stainless Steel Bar A-412-822 | 3/1/03-2/29/04
Corus Engineering Steels Limited
Countervailing Duty Proceedings
IRAN: In-Shell Raw Pistachios C-507-501 | 1/1/03-12/31/03
Tehran Negah Nima Trading Co., Inc., trading as Nima Trading Company
REPUBLIC OF KOREA: Certain Cut-to-Length Carbon-Quality Steel Plate ⁴ C-580-837 | 1/1/03-12/31/03
Suspension Agreements
None.
¹ Company inadvertently omitted from previous initiation notice.
² If the above named company does not qualify for a separate rate, all other exporters of glycine from the People's Republic of China who have not qualified for a separate rate are deemed to be covered by this review as part of a single PRC entity of which the named exporters are a part.
³ In the initiation notice published on March 26, 2004 (69 FR 15788), the review period for Certain Preserved Mushrooms from the People's Republic of China was incorrect. The correct review period is listed above.
⁴ This case was inadvertently listed in the “Initiation of Antidumping and Countervailing Duty Administrative Reviews and Request for Revocation in Part” notice that published in the Federal Register on March 26, 2004 (69 FR 15788). Since the Department did not receive any requests for review of this case, there is no administrative review being conducted for the 1/1/03-12/31/03 period.

During any administrative review covering all or part of a period falling between the first and second or third and fourth anniversary of the publication of an antidumping duty order under § 351.211 or a determination under § 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)), and 19 CFR 351.221(c)(1)(i).

Dated: April 22, 2004.
Holly A. Kuga,
Acting Deputy Assistant Secretary, Group II for Import Administration.

[FR Doc. 04-9644 Filed 4-27-04; 8:45 am]

BILLING CODE 3510-DS-P